DEPARTMENT OF TRANSPORTATION

Federal Aviation Administration

Environmental Impact Statement: Kodiak Airport, Kodiak, AK

AGENCY: Federal Aviation Administration (FAA), DOT.

ACTION: Notice of intent.

SUMMARY: The Federal Aviation Administration announces that it will prepare an Environmental Impact Statement (EIS) for the consideration of proposed actions at the Kodiak Airport. Public and agency scoping meetings will be conducted for the Federal Aviation Administration to receive comments regarding the preparation of the EIS.

DATES:

1. March 27, 2007 in Anchorage, Alaska for agency scoping meeting.

2. March 28, 2007 in Kodiak, Alaska for agency scoping meeting.

3. March 28, 2007 in Kodiak, Alaska for public scoping meeting.

4. April 9, 2007 close of scoping comment period.

Responsible Official: Leslie A. Grey, Environmental Protection Specialist AAL-614, Federal Aviation Administration, Alaskan Region, Airports Division, 222 W. 7th Avenue, #14, Anchorage, AK 99513-7587, Telephone (907) 271-5453.

FOR FURTHER INFORMATION CONTACT: Leslie A. Grey, Environmental Protection Specialist AAL-614, Federal Aviation Administration, Alaskan Region, Airports Division, 222 W. 7th Avenue, #14, Anchorage, AK 99513-7587, Telephone (907) 271-5453, e-mail: Comments@KodiakAirportEIS.com.

Submit Written Comments, Send To: Leslie A. Grey, Environmental Protection Specialist AAL-614, Federal Aviation Administration, Alaskan Region, Airports Division, 222 W. 7th Avenue, #14, Anchorage, AK 99513-7587, Telephone (907) 271-5453, e-mail: Comments@KodiakAirportEIS.com.

SUPPLEMENTARY INFORMATION: The Federal Aviation Administration will prepare an EIS to assess the proposed projects at the Kodiak Airport. The list of major actions proposed to be assessed in the EIS includes improvements to the Runway Safety Areas on Runway 07/25 and Runway 18/36. To improve the safety areas, the FAA will consider alternatives such as the relocation, shifting or realignment of runways; a combination of runway relocation, shifting, grading, realignment; declared distances; and Engineered Material Arresting Systems (EMAS).

The Runway Safety Area deficiencies were identified in the Kodiak Airport Master Plan. The State of Alaska Department of Transportation and Public Facilities published the Airport Master Plan in January 2004.

To ensure that the full range of issues related to the proposed actions are addressed and that all significant issues are identified, the FAA intends to coordinate and consult with the public; tribal governments; and Federal, State, and local agencies that have jurisdiction by law or have special expertise with respect to any environmental impacts associated with the proposed projects.

The agency scoping meetings will be held in Anchorage, Alaska on March 27th, 2007 and in Kodiak, Alaska on March 28th, 2007. A public scoping meeting will be held in Kodiak, Alaska on March 28th, 2007. Notification of the public scoping meeting will be published on the project Web site (www.kodiakairporteis.com), in the Kodiak Daily Mirror, and in the Anchorage Daily News.

In addition to providing input at the scoping meetings, the agencies and the public may submit written comments via the e-mail address Comments@KodiakAirportEIS.com or the address under, “To Submit Written Comments, Send To.” Comments must be submitted by April 9th, 2007.

Issued in Anchorage, Alaska, on February 8, 2007.
Byron K. Huffman,
Manager, Airports Division, AAL-600.

[FR Doc. 07-692 Filed 2-14-07; 8:45 am]

BILLING CODE 4910-13-M